DEPARTMENT OF HEALTH AND HUMAN SERVICES

[Document Identifier: OS-4040-0007]

Agency Information Collection Request; 30-Day Public Comment Request

AGENCY: Office of the Secretary, Health and Human Services.

ACTION: Notice.

SUMMARY: In compliance with the requirement of the Paperwork Reduction Act of 1995, the Office of the Secretary (OS), Department of Health and Human Services, is publishing the following summary of a proposed collection for public comment.

DATES: Comments on the ICR must be received on or before June 16, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sagal Musa sagal.musa@hhs.gov or (202) 578-5441. When submitting comments or requesting information, please include the document identifier 4040-0007-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Assurances for Non-Construction Programs (SF424B).

Type of Collection: Reinstatement.

OMB No.: 4040-0007.

Abstract: Assurances for Non-Construction Programs (SF-424B) is used by applicants to apply for Federal financial assistance. The Assurances for Non-Construction Programs (SF-424B) form requests that the applicants certify specified required assurances as part of their grant proposals. This form is evaluated by Federal agencies as part of the overall grant application. This IC expired on February 28, 2025. Grants.gov is seeking reinstatement without change of this information collection and a three-year clearance.

Estimated Annualized Burden Table
Type of respondent | Number of respondents | Number responses per respondent | Average burden per response (in hours) | Total burden hours
Grant Applicant | 9,772 | 1 | 0.5 | 4,886
Total | 9,772 | 1 | 0.5 | 4,886

Susan R. Little,
Department Information Collection Clearance Officer, Paperwork Reduction Act Program, Department of Health and Human Services.

[FR Doc. 2025-08668 Filed 5-14-25; 8:45 am]

BILLING CODE 4150-AE-P